DEPARTMENT OF ENERGY

Federal Energy Regulatory Commission

Combined Notice of Filings

Take notice that the Commission has received the following Natural Gas Pipeline Rate and Refund Report filings:

Filings Instituting Proceedings

Docket Numbers: RP15-23-012.

Applicants: Transwestern Pipeline Company, LLC.

Description: Compliance filing RP15-23 Compliance to be effective 8/9/2019.

Filed Date: 9/9/19.

Accession Number: 20190909-5088.

Comments Due: 5 p.m. ET 9/23/19.

Docket Numbers: RP19-1426-002.

Applicants: National Fuel Gas Supply Corporation.

Description: Compliance filing CF Rate Schedule W-1 to be effective 9/1/2019.

Filed Date: 9/9/19.

Accession Number: 20190909-5046.

Comments Due: 5 p.m. ET 9/23/19.

Docket Numbers: RP19-1548-000.

Applicants: Texas Eastern Transmission, LP.

Description: § 4(d) Rate Filing: Negotiated Rate—MC Global to CIMA 8959258 to be effective 9/7/2019.

Filed Date: 9/9/19.

Accession Number: 20190909-5079.

Comments Due: 5 p.m. ET 9/23/19.

Docket Numbers: RP19-1549-000.

Applicants: Texas Gas Transmission, LLC.

Description: § 4(d) Rate Filing: Clarifications and Clean-up Items related to Future GMS Implementation to be effective 10/9/2019.

Filed Date: 9/9/19.

Accession Number: 20190909-5084.

Comments Due: 5 p.m. ET 9/23/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 10, 2019.
Nathaniel J. Davis Sr.,
Deputy Secretary.

[FR Doc. 2019-20062 Filed 9-16-19; 8:45 am]

BILLING CODE 6717-01-P